DEPARTMENT OF COMMERCE.

International Trade Administration

A-570-890

Wooden Bedroom Furniture from The People's Republic of China: Notice of Court Decision Not in Harmony

AGENCY: Import Administration, International Trade Administration, U.S. Department of Commerce.

SUMMARY: On December 20, 2005, the United States Court of International Trade (“Court”) sustained the final remand determination made by the Department of Commerce (“the Department”) pursuant to the Court's remand of the amended final determination of the investigation of wooden bedroom furniture from the People's Republic of China. See Decca Hospitality Furnishings, LLC v. United States, Ct. No. 05-00002, Slip Op. 05-161 (Ct. Int'l Trade December 20, 2005) (“Decca Remand II”). This case arises out of the Department's Final Determination of Sales at Less Than Fair Value: Wooden Bedroom Furniture From the People's Republic of China, 69 FR 67313 (November 17, 2004), as amended, 70 FR 329 (January 4, 2005) (“Final Determination”). The final judgment in this case was not in harmony with the Department's January 2005 Final Determination.

EFFECTIVE DATE: January 3, 2006.

FOR FURTHER INFORMATION CONTACT: Eugene Degnan, AD/CVD Operations, Office 8, Import Administration, International Trade Administration, U.S. Department of Commerce, 14th Street and Constitution Avenue, NW., Washington DC 20230; telephone (202) 482-0414.

SUPPLEMENTARY INFORMATION:

Background

In Decca Hospitality Furnishings, LLC v. United States, 391 F. Supp. 2d 1298 (CIT 2005), the Court remanded the Department's determination to reject, as untimely, certain information submitted by Decca Hospitality Furnishings, LLC on behalf of its affiliate Decca Furniture, Ltd. (“Decca”). Specifically, the Court's order directed that:

In its remand determination Commerce may reopen the record and may find (a) that Decca received actual and timely notice of the Section A Questionnaire requirement, (b) that the evidence Decca presented does not satisfy the evidentiary requirements for a separate rate, or (c) that Decca is entitled to a separate rate.

Id. at 1317.

On October 25, 2005, the Department issued its draft results of redetermination pursuant to remand for comment by the interested parties. On October 27, 2005, Decca submitted comments in response to the Department's draft results of redetermination. No other party filed comments in response to the Department's draft results of redetermination pursuant to remand. On November 7, 2005, the Department issued its final results of redetermination pursuant to remand to the Court. The remand redetermination explained that option (a) of the Court's remand instructions was not a viable option for the Department to pursue because it was not possible for the Department to determine if Decca received actual and timely notice of the Section A Questionnaire requirement. Therefore, pursuant to options (b) and (c), the Department reopened the record and allowed Decca to resubmit its July 2, 2004, submission in order to analyze the evidence presented by Decca to determine its eligibility for a separate rate. Additionally, the Department issued two supplemental questionnaires to Decca to address some deficiencies found in Decca's July 2, 2004, submission. Decca submitted timely and complete responses to these questionnaires. Based on our analysis of Decca's evidence, we determined that Decca qualifies for a separate rate in the investigation of wooden bedroom furniture from the PRC. See Final Results of Redetermination Pursuant to Court Remand, November 7, 2005.

On December 20, 2005, the Court found that the Department duly complied with the Court's remand order and sustained the Department's remand redetermination. See Decca Remand II. The granting of a separate rate to Decca changes Decca's antidumping duty rate from the PRC-wide rate of 198.08 percent to the Section A respondent rate of 6.65 percent.

Timken Notice

In its decision in Timken Co., v. United States, 893 F.2d 337, 341 (Fed. Cir. 1990) (“Timken”), the United States Court of Appeals for the Federal Circuit held that, pursuant to section 516A(e) of the Tariff Act of 1930, as amended (“the Act”), the Department must publish a notice of a court decision that is not “in harmony” with a Department determination, and must suspend liquidation of entries pending a “conclusive” court decision. The Court's decision in Decca Remand II on December 20, 2005, constitutes a final decision of that court that is not in harmony with the Department's final determination of sales at less than fair value. This notice is published in fulfillment of the publication requirements of Timken. Accordingly, the Department will continue the suspension of liquidation of the subject merchandise pending the expiration of the period of appeal, or, if appealed, upon a final and conclusive court decision.

This notice is issued and published in accordance with section 516A(c)(1) of the Act.

Dated: December 20, 2005.
Gary S. Taverman,
Acting Assistant Secretary for Import Administration.

[FR Doc. E6-77 Filed 1-9-06; 8:45 am]

BILLING CODE 3510-DS-S